DEPARTMENT OF TRANSPORTATION

Federal Aviation Administration

Notice of Intent To Prepare an Environmental Impact Statement for the Southern Nevada Supplemental Airport, Clark County, NV, and To Conduct Public Scoping Meetings

AGENCY: Federal Aviation Administration (FAA), Department of Transportation (DOT).

ACTION: Notice of Intent to Prepare an Environmental Impact Statement and to Conduct Public Scoping Meetings.

SUMMARY: The Federal Aviation Administration (FAA) and the Bureau of Land Management (BLM) are issuing this notice to the public that an Environmental Impact Statement (EIS) will be prepared to consider the construction and operation of a new supplemental commercial service airport in southern Nevada. In accordance with Public Law 106-362, titled: Ivanpah Valley Airport Public Lands Transfer Act, the FAA, representing the Department of Transportation (DOT), and the BLM, representing the Department of the Interior (DOI), will serve as joint lead Federal agencies for the preparation of this EIS.

The Clark County Department of Aviation (CCDOA), the sponsor of the project, has proposed to construct and operate a new supplemental commercial service airport (the Ivanpah Valley Airport) 30 miles south of the Las Vegas metropolitan area in the Ivanpah Valley (the Proposed Action) in order to ensure sufficient commercial service capacity for the metropolitan area. CCDOA propose that the new supplemental commercial service airport would be operational by the year 2017, and would supplement existing capacity at McCarran International Airport (McCarran Airport). CCDOA's proposal to construct a supplemental airport requires approval by the FAA. Such Federal action is subject to the National Environmental Policy Act (NEPA) and requires preparation of an EIS, which will evaluate the environmental impacts of the proposed Ivanpah Valley Airport and other reasonable alternatives for meeting the aviation needs of southern Nevada.

CCDOA has proposed to construct and operate a new supplemental commercial service airport in response to the need for supplemental commercial service to the Las Vegas metropolitan area. McCarran Airport, which is owned and operated by Clark County, is currently the primary commercial passenger and cargo airport that serves as a gateway to the Las Vegas metropolitan area and southern Nevada. The number of commercial service operations has increased substantially at McCarran Airport over the past decade, largely as a result of the rapid growth in tourism, convention business, and service industries associated with the gaming and entertainment industry in Las Vegas, as well as an increase in population. Forecasts predict continued growth in aircraft operations at rates significantly exceeding the national average.

Although McCarran Airport will be able to accommodate passenger demand in the next few years with the planned expansion and development of new terminal facilities, parking lots, and roadways, FAA forecasts indicate that by the year 2015, activity at McCarran Airport will reach 706, 684 annual aircraft operations (takeoffs or landings), representing an approximate 15 percent increase over existing operations. Without additional airfield, roadway, and terminal capacity, this level of operations would result in unacceptable levels of congestion and delay. Therefore, additional airfield, roadway, and terminal facilities would be required to meet future operations and passenger demand in the region.

FOR FURTHER INFORMATION CONTACT: Andrew M. Richards, Manager, Federal Aviation Administration, San Francisco Airports District Office, 831 Mitten Road, Room 210, Burlingame, CA 94010, Telephone: (650) 876-2778 and Jeffrey Steinmetz, Planning and Environmental Coordinator, Bureau of Land Management, Las Vegas Field Office, 4701 North Torrey Pines Drive, Las Vegas, NV 89130, Telephone: (702) 515-5097. Comments on the scope of the EIS should be submitted to the addresses above and must be postmarked no later than Monday, November 6, 2006.

SUPPLEMENTARY INFORMATION: In the Ivanpah Valley Airport Public Lands Transfer Act, Congress directed the Bureau of Land Management (BLM), acting on behalf of the Secretary of the DOI, to transfer property in Ivanpah Valley, Nevada to Clark County for the purpose of developing an airport facility and related infrastructure. That transfer has been completed. In accordance with the Ivanpah Valley Airport Public Lands Transfer Act, should completion of the NEPA process lead to the determination that an airport should not be constructed at the site, it will be transferred back to BLM ownership.

The Ivanpah Valley Airport Public Lands Transfer Act also directed the Departments of Transportation and Interior to prepare a joint EIS “with respect to initial planning and construction” prior to construction of an airport facility and related infrastructure on the proposed Ivanpah site. The FAA and BLM will prepare an EIS for what is being called the Southern Nevada Supplemental Airport. The EIS will address a range of alternatives that achieve the purpose and need and that are reasonable. The range of alternatives identified during the scoping process may include alternatives other than the Proposed Action. The alternatives may include, but are not limited to, expansion of McCarran Airport and use of other existing airports. The alternatives will also include a no-action scenario as required by NEPA.

The FAA and BLM intend to use the preparation of this EIS to comply with applicable laws having public involvement requirements. Comments addressing your issues should be addressed to the listed contact persons and must be postmarked no later than Monday, November 6, 2006.

Public Scoping Meetings: The FAA and BLM intend to conduct a scoping process to gather input from interested parties to help identify issues of concern associated with the Proposed Action. In addition to this notice, Federal, State, and local agencies, which have jurisdiction by law or have special expertise with respect to any potential environmental impacts associated with the Proposed Action, will be notified by letter of an agency scoping meeting.

To notify the general public of the scoping process, a legal notice describing the Proposed Action will be placed in newspapers having general circulation in the project area. The newspaper notice will notify the public that scoping meetings will be held to gain their input concerning the Proposed Action, alternatives to be considered, and impacts to be evaluated. The public scoping meetings are scheduled for 5 to 8 p.m. on Tuesday, October 3, 2006 at Jean Airport Special Events Center, 23600 Las Vegas Boulevard South, Jean, NV; at 5 to 8 p.m. on Wednesday, October 4, 2006, at Panos Hall, 5300 South El Camino Road, Las Vegas, NV; and 10 a.m. to 12 p.m. on Thursday, October 5, 2006 at Panos Hall, 5300 South El Camino Road, Las Vegas, NV. An agency scoping meeting will be held specifically for governmental agencies on Thursday, October 5, 2006 at Panos Hall, 5300 South El Camino Road, Las Vegas, NV. The agency meeting will be held from 2 p.m. to 4 p.m.

Further information about the EIS and the Proposed Action will be posted when available at the following Web site: http://www.snvairporteis.com. Written and oral comments will be accepted at each of the meetings, or can be mailed to the BLM and FAA contact for inclusion into the record. The purpose of the scoping meetings is to receive input from the public regarding the scope and process related to the EIS.

Issued in Lawndale, California, on Tuesday, August 29, 2006.
Brian Q. Armstrong,
Acting Manager, Airports Division, Western-Pacific Region.

[FR Doc. 06-7421 Filed 9-1-06; 8:45 am]

BILLING CODE 4910-13-M